SMALL BUSINESS ADMINISTRATION

Data Collection Available for Public Comments and Recommendations

ACTION: Notice and request for comments.

SUMMARY: In accordance with the Paperwork Reduction Act of 1995, this notice announces the Small Business Administration's intentions to request approval of a new, and/or currently approved information collection.

DATES: Submit comments on or before October 9, 2001.

ADDRESSES: Send all comments regarding whether this information collection is necessary for the proper performance of the function of the agency, whether the burden estimate is accurate, and if there are ways to minimize the estimated burden and enhance the quality of the collection, to Jacqueline White, Chief, Administrative Information Branch, Office of Administrative Services, Small Business Administration, 409 3rd Street, SW., Suite 5000, Washington DC 20416.

FOR FURTHER INFORMATION CONTACT: Glenn P. Harris, Chief Counsel for Enforcement, Office of General Counsel, (202) 205-6862, or Curtis Rich, Management Analyst, (202) 205-7030.

SUPPLEMENTARY INFORMATION: Title: National Environmental Policy Act Questionnaire.

Form No: SBA Form 2195.

Description of Respondents: Lenders participating in the section 7(a) guaranteed loan program, Certified Development Companies participating in the section 504 loan program, and certain small businesses that apply to SBA for financial assistance.

Annual Responses: 54,500.

Annual Burden: 32,614.

Jacqueline White,
Chief, Administrative Information Branch.

[FR Doc. 01-19665 Filed 8-6-01; 8:45 am]

BILLING CODE 8025-01-P